DEPARTMENT OF HOMELAND SECURITY

Coast Guard

33 CFR Part 165

[Docket No. USCG-2013-0331]

RIN 1625-AA00

Eighth Coast Guard District Annual Safety Zones; Riverfront Independence Festival Fireworks; Ohio River 607.0-609.0; New Albany, KY

AGENCY: Coast Guard, DHS.

ACTION: Notice of enforcement of regulation.

SUMMARY: The Coast Guard will enforce a Safety Zone for the Riverfront Independence Festival Fireworks on the Ohio River 607.0 to 609.0 from 9:30 p.m. until 10:30 p.m. on July 3, 2013. This action is necessary for the safeguard of participants and spectators, including all crews, vessels, and persons on navigable waters during the Riverfront Independence Festival Fireworks. During the enforcement period, in accordance with a previously established Safety Zone, entry into, transiting through or anchoring in the Safety Zone is prohibited to all vessels not registered with the sponsor as participants or official patrol vessels, unless specifically authorized by the Captain of the Port (COTP) Ohio Valley or a designated representative.

DATES: The regulations in 33 CFR 165.801 will be enforced from 9:30 p.m. until 10:30 p.m. on July 3, 2013.

FOR FURTHER INFORMATION CONTACT: If you have questions on this notice of enforcement, call Petty Officer Second Class Catherine M. Lawson, Coast Guard Sector Ohio Valley at 502-779-5432, or by email at Catherine.M.Lawson@uscg.mil.

SUPPLEMENTARY INFORMATION: The Coast Guard will enforce the Safety Zone for the annual Riverfront Independence Festival Fireworks listed in 33 CFR 165.801 Table 1, Table No. 18; Sector Ohio Valley, No. 21 on July 3, 2013 from 9:30 p.m. until 10:30 p.m.

Under the provisions of 33 CFR 165.801, entry into the Safety Zone listed in Table 1, Table No. 18; Sector Ohio Valley, No. 21 is prohibited unless authorized by the Captain of the Port or a designated representative. Persons or vessels desiring to enter into or pass through the Safety Zone must request permission from the Captain of the Port or a designated representative. If permission is granted, all persons and vessels shall comply with the instructions of the Captain of the Port or designated representative.

This notice is issued under authority of 5 U.S.C. 552(a); 33 U.S.C. 1231; 46 U.S.C. Chapter 701, 3306, 3703; 50 U.S.C. 191, 195; 33 CFR 1.05-1, 6.04-1, 6.04-6, and 160.5; Public Law 107-295, 116 Stat. 2064; Department of Homeland Security Delegation No. 0170.1. In addition to this notice in the Federal Register, the Coast Guard will provide the maritime community with advance notification of this enforcement period via Local Notice to Mariners and Marine Information Broadcasts.

If the Captain of the Port Ohio Valley or Patrol Commander determines that the Safety Zone need not be enforced for the full duration stated in this notice of enforcement, he or she may use a Broadcast Notice to Mariners to grant general permission to enter the regulated area.

Dated: June 13, 2013.
L.W. Hewett,
Captain, U.S. Coast Guard, Captain of the Port Ohio Valley.

[FR Doc. 2013-16046 Filed 7-2-13; 8:45 am]

BILLING CODE 9110-04-P